DEPARTMENT OF AGRICULTURE

Rural Utilities Service

Georgia Transmission Corporation: Notice of Finding of No Significant Impact

AGENCY: Rural Utilities Service, USDA.

ACTION: Notice of Finding of No Significant Impact.

SUMMARY: The Rural Utilities Service (RUS), an agency delivering the United States Department of Agriculture (USDA) Rural Development Utilities Programs, hereinafter referred to as Rural Development and/or the Agency, has made a finding of no significant impact (FONSI) with respect to a request for possible financing assistance to Georgia Transmission Corporation for the construction of the approximately 38.7-mile Thomson-Warthen 500 kV transmission line connecting GTC's Thomson Primary 500/230/115/46 kV Substation in McDuffie County, Georgia to their Warthen 500 kV Switching Station in Washington County, Georgia.

ADDRESSES: To obtain copies of the EA and FONSI, or for further information, contact: Stephanie Strength, Environmental Protection Specialist, USDA, Rural Development Utilities Programs, 1400 Independence Avenue, SW., Stop 1571,Washington, DC 20250-1571, Telephone: (202) 720-0468 or e-mail: stephanie.strength@wdc.usda.gov. The EA and FONSI are also available for public review at USDA Rural Development, 1400 Independence Avenue, SW., Washington, DC 20250-1571, and at Georgia Transmission headquarters at 2100 East Exchange Place, Tucker, GA.

SUPPLEMENTARY INFORMATION: The proposed project consists of the construction of approximately 38.7 miles of 500 kV Transmission Lines on a 150-foot right of way. The transmission line conductors and static wire would be strung on lattice steel structures ranging in height from 80 feet to 150 feet. The transmission line would traverse McDuffie, Warren, Glascock, and Washington Counties in Georgia.

Alternatives considered by USDA Rural Development and Georgia Transmission Corporation include: (a) No action, (b) alternative transmission improvements, and (c) alternate transmission line corridors. The alternatives are discussed in the Thomson-Warthen 500 kV Transmission Line Environmental Report (ER). The USDA Rural Development has accepted the ER as its EA for the proposed project.

The availability of the EA for public review was announced via a legal notice and display ad in the Federal Register and in the following newspapers: The News and Farmer, Jefferson Reporter, and The Sandersville Progress on April 30, 2008. The Warrenton Clipper and The McDuffie Progress published the ads on May 1, 2008. A 30-day comment period was announced in the newspaper's legal notice section and the Federal Register. The EA was available for public review at the USDA Rural Development office and Web site as well as Georgia Transmission Corporation's offices. No comments were received by USDA Rural Development or Georgia Transmission Corporation.

Based on its EA and commitments made by GTC in the EA, USDA Rural Development has concluded that the project would have no significant impact (or no impacts) to water quality, wetlands, the 100-year floodplain, land use, aesthetics, transportation, or human health and safety. The proposed project will have no adverse effect on resources listed or eligible for listing on the National Register of Historic Places. USDA Rural Development has also concluded that the proposed project is not likely to affect Federally listed threatened and endangered species or designated critical habitat thereof. The proposed project would not disproportionately affect minority and/or low-income populations.

No other potential significant impacts resulting from the proposed project have been identified. Therefore, USDA Rural Development has determined that this FONSI fulfills its obligations under the National Environmental Policy Act, as amended (42 U.S.C. 4321 et seq.), the Council on Environmental Quality Regulations (40 CFR 1500-1508), and USDA Rural Development's Environmental Policies and Procedures (7 CFR Part 1794) for its action related to the project.

USDA Rural Development is satisfied that the environmental impacts of the proposed project have been adequately addressed. Since USDA Rural Development's Federal action would not result in significant impacts to the quality of the human environment, it will not prepare an environmental impact statement for its action related to the proposed project.

Dated: June 16, 2008.
James R. Newby,
Assistant Administrator, Electric Program, Rural Utilities Service.

[FR Doc. E8-13895 Filed 6-18-08; 8:45 am]

BILLING CODE 3410-15-P